DEPARTMENT OF TRANSPORTATION

Maritime Administration

[USCG-2004-17659]

Compass Port LLC Liquefied Natural Gas Deepwater Port License; Final Environmental Impact Statement and Final Public Hearings

AGENCY: Maritime Administration, DOT.

ACTION: Notice of availability; notice of public hearing; request for comments.

SUMMARY: The Maritime Administration (MARAD) announces the availability of the Final Environmental Impact Statement (FEIS) for the Compass Port natural gas deepwater port license application. MARAD, the Coast Guard, FERC and USACE request public comments on the FEIS. The USCG and MARAD will hold public hearings, and request public comments, on matters relevant to the approval or denial of the license application. The application describes a project that would be located in the Mobile Outer Continental Shelf (OCS) and Mississippi Sound areas of the U.S. Gulf of Mexico, in lease block Mobile 910, approximately 11 miles south of Dauphin Island, Alabama.

DATES: The public hearing on Dauphin Island, Alabama will be held on April 26, 2006, from 5 p.m. to 7 p.m., and will be preceded by an informational open house from 3 p.m. to 4:30 p.m. The public hearing in Pascagoula, Mississippi will be held on April 27, 2006, from 5 p.m. to 7 p.m., and will be preceded by an informational open house from 3 p.m. to 4:30 p.m.

The public hearings may end later than the stated time, depending on the number of persons wishing to speak. Material submitted in response to the request for comments must reach the Docket Management Facility on or before May 22, 2006, ending the 45 day public comment period. Federal and State agencies may submit comments on the application, recommended conditions for licensing, or letters of no objection by June 11, 2006 (45 days after the final public hearings). Also by June 11, 2006, the Governors of the adjacent coastal states of Alabama and Mississippi may approve, disapprove, or notify MARAD of inconsistencies with State programs relating to environmental protection, land and water use, and coastal zone management for which MARAD may condition the license to make consistent. MARAD must issue a record of decision (ROD) to approve, approve with conditions, or deny the DWP license application by July 26, 2006 (90 days after the public hearings).

ADDRESSES: The public hearing and informational open house in Dauphin Island, Alabama will be held at: Dauphin Island Chamber of Commerce, 402 La Vente Street, Dauphin Island, Alabama 36528, phone: 251-861-5524.

The public hearing and informational open house in Pascagoula, Mississippi will be held at: Pascagoula High School Library, 1716 Tucker Avenue, Pascagoula, Mississippi 39567, phone: 228-938-6451.

A copy of the FEIS, license application, and associated documentation is available for viewing at the DOT's docket management Web site: http://dms.dot.gov under docket number 17659. Copies are also available for review at Pascagoula Public Library, Pascagoula, MS, phone: 228-769-3060; Spring Hill College Library, Mobile, AL, phone: 251-380-3870; Mose Hudson Tapia Public Library, Bayou La Batre, AL, phone: 334-824-4213; Bell/Whittington Public Library, Portland, TX, phone: 361-777-0921; and Corpus Christi Public Library, Corpus Christi, TX, phone: 361-758-5276.

Address docket submissions for USCG-2004-17659 to: Docket Management Facility, U.S. Department of Transportation, 400 Seventh Street, SW., Washington, DC 20590-0001.

The Docket Management Facility accepts hand-delivered submissions, and makes docket contents available for public inspection and copying, at this address, in room PL-401, between 9 a.m. and 5 p.m., Monday through Friday, except Federal holidays. The Facility's telephone is 202-366-9329, its fax is 202-493-2251, and its Web site for electronic submissions or for electronic access to docket contents is http://dms.dot.gov. The docket number is USCG-2004-17659.

FOR FURTHER INFORMATION CONTACT: Mr. Raymond Martin, U.S. Coast Guard, telephone: 202-267-1683, email: RMartin@comdt.uscg.mil. If you have questions on viewing the docket, call Renee V. Wright, Program Manager, Docket Operations, telephone: 202-493-0402.

SUPPLEMENTARY INFORMATION:

Public Hearing and Open House

We invite you to learn about the proposed deepwater port at the informational open house, and to comment at the public hearing on the proposed action and the evaluation contained in the FEIS and on matters relevant to the approval or denial of the license application.

Speaker registration will be available at the door. In order to allow everyone a chance to speak, we may limit speaker time, or extend the meeting hours, or both. You must identify yourself, and any organization you represent, by name. Your remarks will be recorded or transcribed for inclusion in the public docket.

You may submit written material at the public meeting, either in place of or in addition to speaking. Written material must include your name and address, and will be included in the public docket. Public docket materials will be made available to the public on the Docket Management Facility's Docket Management System (DMS). See “Request for Comments” for information about DMS and your rights under the Privacy Act.

If you plan to attend either the open house or the public meeting, and need special assistance such as sign language interpretation or other reasonable accommodation, please notify the Coast Guard (see FOR FURTHER INFORMATION CONTACT) at least 3 business days in advance. Include your contact information as well as information about your specific needs.

Request for Comments

We request public comments or other relevant information on the FEIS or the approval or denial of the license application. The public meeting is not the only opportunity you have to comment. In addition to, or in place of, attending the meeting, you can submit material to the Docket Management Facility during the public comment period (see DATES). MARAD and the Coast Guard will consider all comments submitted during the public comment period.

Submissions should include:

• Docket number USCG-2004-17659.

• Your name and address.

• Your reasons for making each comment or for bringing information to our attention.

Submit comments or material using only one of the following methods:

• Electronic submission to DMS, http://dms.dot.gov.

• Fax, mail, or hand delivery to the Docket Management Facility (see ADDRESSES). Faxed or hand delivered submissions must be unbound, no larger than 8½ by 11 inches, and suitable for copying and electronic scanning. If you mail your submission and want to know when it reaches the Facility, include a stamped, self-addressed postcard or envelope.

Regardless of the method used for submitting comments or material, all submissions will be posted, without change, to the DMS website (http://dms.dot.gov), and will include any personal information you provide. Therefore, submitting this information makes it public. You may wish to read the Privacy Act notice that is available on the DMS Web site, or the Department of Transportation Privacy Act Statement that appeared in the Federal Register on April 11, 2000 (65 FR 19477).

You may view docket submissions at the Docket Management Facility (see ADDRESSES), or electronically on the DMS Web site.

To submit comments to the FERC docket (CP04-114-000 and CP04-115-000), send an original and two copies of your comments to: Secretary, Federal Energy Regulatory Commission, 888 First St., NE., Room 1A, Washington, DC 20426.

• Label one copy of the comments for the attention of Gas Branch 2, PJ11.2

• Reference Docket No. CP04-114-000 and CP04-115-000; and

• Mail your comments so that they will be received in Washington, DC on or before May 22, 2006.

Please note that FERC is continuing to experience delays in mail deliveries from the U.S. Postal Service. As a result, we will include all comments that we receive within a reasonable time frame in our environmental analysis of this project. However, the FERC strongly encourages electronic filing of any comments or interventions or protests to this proceeding. See 18 CFR 385.2001(a)(1)(iii) and the instructions on the FERC's Web site at http://www.ferc.gov under the “e-Filing” link and the link to the User's Guide. Before you can file comments, you will need to create a free account which can be created online.

Comments will be considered by the FERC but will not serve to make the commenter a party to the proceeding. Any person seeking to become a party to the proceeding must file a motion to intervene pursuant to Rule 214 of the FERC's Rules of Practice and Procedures (18 CFR 385.214).

Anyone may intervene in this proceeding based on this FEIS. You must file your request to intervene as specified above. You do not need intervener status to have your comments considered.

The FEIS has been placed in the public files of the FERC and is available for distribution and public inspection at: Federal Energy Regulatory Commission, Public Reference Room, 888 First Street, NE., Room 2A, Washington, DC 20426; 202-502-8371. A limited number of copies are available from the Public Reference Room identified above. In addition, copies of the FEIS have been mailed to federal, state and local agencies; public interest groups; individuals who have requested the FEIS; newspapers; and parties to this proceeding.

Additional information about the project is available from the FERC's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202)502-8659. The eLibrary link also provides access to the texts of formal documents issued by the FERC, such as orders, notices, and rulemakings.

In addition, the FERC now offers a free service called eSubscription which allows you to keep track of all formal issuances and submittals in specific dockets. This can reduce the amount of time you spend researching proceedings by automatically providing you with notification of these filings, document summaries and direct links to the documents. Go to http://www.ferc.gov/esubscribenow.htm.

The U.S. Army Corps of Engineers (USACE) is also a cooperating agency in the NEPA process for this project. If you would like to submit comments to the USACE on proposed actions in Alabama, mail them to: Mr. Chuck Sumner, U.S. Army Corps of Engineers Regulatory Branch, CESAM-OP-SP, P.O. Box 2288, Mobile, AL 36628-0001.

If you would like to submit comments to the USACE on proposed actions in Texas, mail them to: Mr. Reagan Richter, U.S. Army Corps of Engineers, 5151 Flynn Parkway Ste. 306, Corpus Christi, TX 78411-4318. Mail your comments so that they will be received, on or before May 22, 2006.

Supplementary Information/Background

Proposed Action

We published information about deepwater ports, the statutes and regulations governing their licensing, the receipt of the current application, and a notice of intent to prepare an EIS for the Proposed Compass Port Deepwater Port at 69 FR 35657, June 25, 2004 and we have announced the availability of the draft EIS at 70 FR 7288, February 11, 2005. The proposed action requiring environmental review is the Federal licensing of the Proposed Deepwater Port described in “Summary of the Application” below, which is reprinted from previous Federal Register notices in this docket.

Alternatives to the Proposed Action

The alternatives to licensing are: (1) Licensing with conditions (including conditions designed to mitigate environmental impact), and (2) denying the application, which for purposes of environmental review is the “no-action” alternative. These alternatives are more fully discussed in the FEIS.

Summary of the Application

The application plan calls for the Proposed Deepwater Port to be located in the Mobile Outer Continental Shelf (OCS) and Mississippi Sound areas of the U.S. Gulf of Mexico, approximately 11 miles off Dauphin Island, Alabama in lease block Mobile 910. Compass Port would serve as an LNG receiving, storage, and regasification facility, located in approximately 70 feet of water depth, and would incorporate docking facilities, unloading facilities, two LNG storage tanks, an offshore pipeline and support facilities.

The Proposed Deepwater Port would be able to receive LNG carriers up to 255,000 cubic meters cargo capacity. LNG carrier arrival frequency would be planned to match specified terminal gas delivery rates. LNG would be stored in two integral full-containment tanks, each with a capacity of 150,000 cubic meters, and a combined capacity of 300,000 cubic meters of LNG.

The regasification process would consist of lifting the LNG from the storage tanks, pumping the LNG to pipeline pressure, vaporizing across heat exchanging equipment, and sending out through the pipeline to custody transfer metering for ultimate delivery to downstream interstate pipeline capacity. No gas conditioning is required since the incoming LNG will meet the gas quality specifications of the downstream pipelines. The Proposed Deepwater Port would be designed for an average delivery of approximately 1.0 billion cubic feet per day (bcfd) of pipeline quality gas.

Compass Port LLC also proposes the installation of approximately 26.8 miles of 36-inch diameter natural gas transmission pipeline on the OCS. In addition, approximately 4.9 miles of 36-inch diameter pipeline would be installed onshore to connect the proposed deepwater port and offshore pipeline with existing gas distribution pipelines near Coden, Alabama.

The applicant has proposed the Kiewit Offshore Services site in Ingleside, TX for the fabrication of the concrete GBS's which would be used to contain the LNG storage tanks.

Dated: April 4, 2006.
Joel C. Richard,
Secretary, Maritime Administration.

[FR Doc. E6-5106 Filed 4-6-06; 8:45 am]

BILLING CODE 4910-81-P